DEPARTMENT OF ENERGY

Federal Energy Regulatory Commission

[Project Nos. 13022-002; 14265-000]

Barren River Lake Hydro LLC; FFP Project 94 LLC; Notice of Competing Preliminary Permit Applications Accepted for Filing and Soliciting Comments, Motions To Intervene, and Competing Applications

On September 1, 2011, Barren River Lake Hydro LLC (Barren Hydro), and FFP Project 94 LLC (FFP 94) filed preliminary permit applications, pursuant to section 4(f) of the Federal Power Act, proposing to study the feasibility of a hydropower project at the U.S. Army Corps of Engineers' (Corps) Barren River Lake Dam, located on the Barren River in Allen County, Kentucky. The sole purpose of a preliminary permit, if issued, is to grant the permit holder priority to file a license application during the permit term. A preliminary permit does not authorize the permit holder to perform any land-disturbing activities or otherwise enter upon lands or waters owned by others without the owners' express permission.

Barren Hydro's Project No. 13022-002 would consist of: (1) Lining the existing outlet structure with a 280-foot-long, 14-foot-diameter steel penstock; (2) a new gate and bifurcation where the penstock exits the dam; (3) a powerhouse containing one generating unit with a total capacity of 6.8 megawatts (MW); (4) a 110-foot-long, 80-foot-wide tailrace; and (5) a proposed 0.8-mile-long, 12.5 kilo-volt (KV) transmission line to an existing transmission line. The proposed project would have an average annual generation of 24.2 gigawatt-hours (GWh), and operate run-of-river utilizing surplus water from the Barren River Lake Dam, as directed by the Corps.

Applicant Contact: Mr. Brent L. Smith, Symbiotics LLC, 371 Upper Terrace, Suite 2, Bend, OR 97702. (541) 330-8779.

FFP 94's Project No. 14265-000 would consist of: (1) A 50-foot by 30-foot reinforced concrete bifurcation structure containing three vertical slide gates will be constructed at the end of the existing outlet conduit; (2) a 420-foot-long, 10.5-foot-diameter penstock will be connected to the new bifurcation structure; (3) a powerhouse, located on the east side of the dam, containing one generating unit with a total capacity of 4.8 MW; (4) a 50-foot-long, 130-foot-wide tailrace; (5) a 4.16/69 KV substation; (6) a 9.12-mile-long, 69 kV transmission line and (7) a new 330-foot-long access road. The proposed project would have an average annual generation of 16.80 GWh, and operate run-of-river utilizing surplus water from the Barren River Lake Dam, as directed by the Corps.

Applicant Contact: Ms. Ramya Swaminathan, Free Flow Power Corp., 239 Causeway Street, Suite 300, Boston, MA 02114. (978) 283-2822.

FERC Contact: Michael Spencer, michael.spencer@ferc.gov, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13022-002, or P-14265-000) in the docket number field to access the document. For assistance, contact FERC Online Support.

Dated: November 22, 2011.
Kimberly D. Bose,
Secretary.

[FR Doc. 2011-30675 Filed 11-28-11; 8:45 am]

BILLING CODE 6717-01-P